DEPARTMENT OF HEALTH AND HUMAN SERVICES

Centers for Disease Control and Prevention

[30Day-15-0856]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Quitline Data Warehouse (OMB No. 0920-0856, exp. 10/31/2015)—Revision—National Center for Chronic Disease Prevention and Health Promotion (NCCDPHP), Centers for Disease Control and Prevention (CDC).

Background and Brief Description

Tobacco use remains the leading preventable cause of disease and death in the United States. Quitlines are telephone-based services that provide callers with information, counseling, and referrals to support tobacco cessation. Quitlines overcome many of the barriers to tobacco cessation classes and traditional clinics because they are free and available at the caller's convenience.

CDC's Office on Smoking and Health (OSH) has provided funding and technical assistance to 53 Quitlines in all 50 states, the District of Columbia, Guam, and Puerto Rico. Callers may call state-specific numbers or contact Quitlines through a nationally branded portal (1-800-QUIT-NOW) and are then routed to the Quitline managed by their state or territory. Although Quitline services and operations vary across states and territories, some activities are based on common protocols that provide a framework for program monitoring and evaluation.

During the most recent approved information collection period, all 53 Quitlines reported information to CDC's National Quitline Data Warehouse (NQDW). Data collection consisted of de-identified caller intake information based on a minimum data set (MDS) developed collaboratively by the Quitlines and stakeholders including professional organizations and the CDC. In addition, all 53 Quitlines reported de-identified information on a subset of callers who participated in a voluntary, seven-month follow-up interview. Finally, the Tobacco Control Manager for each state- or territory-based Quitline submitted a quarterly services report to CDC which summarized its services, call volume, and caller characteristics. These reports have been used to quantify changes in service provision and improvements in the capacity of the Quitlines to assist tobacco users over time. Based on NQDW data, the average time to complete the NQDW Quitline Services Online Survey is 20 minutes. The majority of these data are submitted through the web-based survey although CDC will accept other electronic means as needed (i.e., email, PDF, fax).

In 2015, CDC provided funding to expand services through the Asian Smokers' Quitline (ASQ). The ASQ offers tobacco cessation support services to callers who speak Chinese, Korean, or Vietnamese. Callers may be routed to the ASQ from any state or territory currently participating in the NQDW.

CDC requests OMB approval to revise information collection for the NQDW as follows.

The ASQ will become an additional respondent providing data to the NQDW using the NQDW Intake Questionnaire, NQDW (ASQ) Seven-Month Follow-up Questionnaire, and NQDW Quitline Services Survey. This increases the number of participating Quitlines from 53 to 54.

Five questions will be added to the NQDW Intake Questionnaire to collect information about pregnancy, insurance status, type of health insurance, mental health, and language of service. The estimated burden per response for a complete intake interview is 10 minutes. The complete intake interview is only administered to callers who request information or assistance for themselves. A short version of the intake interview will be administered to any caller who contacts a quitline on behalf of another person. The short version of the intake interview consists of a subset of four questions. The estimated burden per response for these callers is one minute.

The Seven-Month Follow-up Questionnaire will be discontinued for all callers except those who receive services through the ASQ.

Individual-level data (intake and 7-month follow-up) are submitted to CDC electronically through a secure FTP server or via U.S. mail. The burden table for the NQDW includes allocations for the caller intake and follow-up interviews, and an allocation for quitlines to prepare and submit the de-identified aggregate files.

The information collected in the NQDW will be used to determine the role Quitlines play in promoting tobacco use cessation, measure the number of tobacco users being served by state quitlines, determine reach of Quitlines to high-risk populations (e.g., racial and ethnic minorities and the medically underserved), measure the number using each state quitline who quit, determine whether some combinations of services contribute to higher quit rates than others, and improve the timeliness, access to, and quality of data collected by quitlines.

OMB approval is requested for three years. During this period there is a net reduction in total estimated annualized burden hours due to adjustments in the estimated number of Quitline callers. There are no costs to respondents other than their time. The total estimated annualized burden hours are 80,708.

Estimated Annualized Burden Hours
Type of respondents | Form name | Number of respondents | Number of responses per respondent | Average burden per response (in hrs.)
Quitline callers who contact the quitline for help for themselves | NQDW Intake Questionnaire (English-complete) | 478,638 | 1 | 10/60
| ASQ Intake Questionnaire (Chinese, Korean, or Vietnamese-complete) | 803 | 1 | 10/60
| ASQ Seven-Month Follow-up Questionnaire | 659 | 1 | 7/60
Caller who contacts the Quitline on behalf of someone else | NQDW Intake Questionnaire (English-subset) | 26,007 | 1 | 1/60
| ASQ Intake Questionnaire (Chinese, Korean, or Vietnamese-subset) | 116 | 1 | 1/60
Tobacco Control Manager or their Designee/Quitline Service Provider | Submission of NQDW Intake Questionnaire Electronic Data File to CDC | 54 | 4 | 1
| Submission of NQDW (ASQ) Seven-Month Follow-up Electronic Data File to CDC | 1 | 1 | 1
| NQDW Quitline Services Survey | 54 | 4 | 20/60

Leroy A. Richardson,
Chief, Information Collection Review Office, Office of Scientific Integrity, Office of the Associate Director for Science, Office of the Director, Centers for Disease Control and Prevention.

[FR Doc. 2015-25734 Filed 10-8-15; 8:45 am]

BILLING CODE 4163-18-P